LEGAL SERVICES CORPORATION

Sunshine Act Meeting

DATE AND TIME: The Legal Services Corporation's Board of Directors and its six committees will meet April 8-10, 2018. On Sunday, April 8, the first meeting will commence at 2:00 p.m., Eastern Daylight Time (EDT). On Monday, April 9, the first meeting will commence at 9:00 a.m., EDT, with the next meeting commencing promptly upon adjournment of the immediately preceding meeting. On Tuesday, April 10, the first meeting will commence at 9:00 a.m., EDT and will be followed by the closed session meeting of the Board of Directors that will commence promptly upon adjournment of the prior meeting.

LOCATION: Legal Services Corporation, 3333 K Street NW, 3rd Floor F. William McCalpin Conference Center, Washington, DC 20007.

PUBLIC OBSERVATION: Unless otherwise noted herein, the Board and all committee meetings will be open to public observation. Members of the public who are unable to attend in person but wish to listen to the public proceedings may do so by following the telephone call-in directions provided below.

Call-In Directions for Open Sessions

• Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Sunday, April 8, 2018:
1. Operations & Regulations Committee | 2:00 p.m.
Monday, April 9, 2018:
1. Finance Committee | 9:00 a.m.
2. Audit Committee
3. Institutional Advancement Committee
4. Communications Subcommittee of the Institutional Advancement Committee
5. Governance and Performance Committee
6. Delivery of Legal Services Committee
7. Board of Directors
Tuesday, April 10, 2018:
1. Board of Directors | 9:00 a.m.
* Please note that all times in this notice are in Eastern Daylight Time.

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

Institutional Advancement Committee—Open, except that, upon a vote of the Board of Directors, the meeting may be closed to the public to consider and act on recommendation of new Leaders Council invitees and to receive a report on Development activities.**

Audit Committee—Open, except that the meeting may be closed to the public to hear a briefing on the Office of Compliance and Enforcement's active enforcement matters.**

Governance and Performance Review Committee—Open, except that the meeting may be closed to the public to hear a report on the President's evaluation of other officers.**

** Any portion of the closed session consisting solely of briefings does not fall within the Sunshine Act's definition of the term “meeting” and, therefore, the requirements of the Sunshine Act do not apply to such portion of the closed session. 5 U.S.C. 552b (a) (2) and (b). See also 45 CFR 1622.2 & 1622.3.

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

Matters to be Considered

April 8, 2018

Operations & Regulations Committee

Open Session

1. Approval of agenda

2. Approval of minutes of the Committee's Open Session meeting of January 21, 2018

3. Discussion regarding documents and information for orientation of and transition to new Committee members

4. Consider and act on Final Rule to repeal 45 CFR part 1603—State Advisory Councils

• Ron Flagg, General Counsel and Vice President for Legal Affairs

• Stefanie Davis, Assistant General Counsel

• Zoe Osterman, Law Fellow

5. Consider and act on Final Rule to adopt a Touhy rule for LSC's process to respond to subpoenas

• Ron Flagg, General Counsel and Vice President for Legal Affairs

• Stefanie Davis, Assistant General Counsel

• Kristin Martin, Law Fellow

6. Consider and act on commencing rulemaking to revise 45 CFR part 1607—Governing Bodies

• Ron Flagg, General Counsel and Vice President for Legal Affairs

• Stefanie Davis, Assistant General Counsel

7. Consider and act on the 2018-2019 Rulemaking Agenda

• Ron Flagg, General Counsel and Vice President for Legal Affairs

• Stefanie Davis, Assistant General Counsel

8. Update on performance management and human capital management

• Traci Higgins, Director of Human Resources

9. Report on collection and improvement of data regarding grantee services

• Carlos Manjarrez, Director, Office of Data Governance and Analysis

10. Public comment

11. Consider and act on other business

12. Consider and act on adjournment of meeting

April 9, 2018

Finance Committee

Open Session

1. Approval of agenda

2. Approval of minutes of the Committee's Open Session meeting on January 21, 2018

3. Approval of minutes of the Combined Finance and Audit Committees' Open Session meeting on January 21, 2018

4. Discussion regarding documents and information for orientation of and transition to new Committee members

5. Presentation of LSC's Financial Report for the first five months of FY 2018

6. Discussion of LSC's FY 2018 appropriations

• Carol Bergman, Vice President for Government Relations & Public Affairs

7. Consider and act on Resolution #2018-XXX, LSC's Revised Operating Budget for FY 2018

• David Richardson, Treasurer and Comptroller

8. Discussion of LSC's FY 2019 appropriations request

• Carol Bergman, Director of Government Relations & Public Affairs

9. Management discussion regarding process and timetable for FY 2020 budget request

• Carol Bergman, Director of Government Relations & Public Affairs

• Jim Sandman, President

10. Public comment

11. Consider and act on other business

12. Consider and act on adjournment of meeting

April 9, 2018

Audit Committee

Open Session

1. Approval of agenda

2. Approval of minutes of the Committee's Open Session meeting on January 21, 2018

3. Approval of minutes of the Combined Audit and Finance Committees' Open Session meeting on January 21, 2018

4. Discussion regarding documents and information for orientation of and transition to new Committee members

5. Briefing of Office of Inspector General

• Jeffrey Schanz, Inspector General

• Roxanne Caruso, Assistant Inspector General for Audits

6. Pursuant to Section VIII(A)(6) of the Committee Charter, review and discuss with LSC Management assessment regarding financial business processes

• Jim Sandman, President

7. Management update regarding risk management

• Ron Flagg, General Counsel and Vice President for Legal Affairs

8. Briefing about follow-up by the Office of Compliance and Enforcement on referrals by the Office of Inspector General regarding audit reports and annual Independent Public audits of grantees

• Lora Rath, Director of Compliance and Enforcement

• Roxanne Caruso, Assistant IG for Audits

9. Public comment

10. Consider and act on other business

11. Consider and act on motion to adjourn the open session meeting and proceed to a closed session

Closed Session

12. Approval of minutes of the Committee's Closed Session meeting of January 21, 2018

13. Briefing by the Office of Compliance and Enforcement on active enforcement matter(s) and follow-up to open investigation referrals from the Office of Inspector General

• Lora Rath, Director of Compliance and Enforcement

14. Consider and act on adjournment of meeting

April 9, 2018

Institutional Advancement Committee

Open Session

1. Approval of agenda

2. Approval of minutes of the Committee's Open Session meeting of January 22, 2018

3. Discussion regarding documents and information for orientation of and transition to new Committee members

4. Update on Leaders Council

• John G. Levi, Chairman of the Board

5. Development report

• Nadia Elguindy, Director of Institutional Advancement

6. Consider and act on Resolution 2018-XXX, Minnesota Charitable Organization Annual Report Form

7. Public Comment

8. Consider and act on other business

9. Consider and act on motion to adjourn the open session meeting and proceed to a closed session

Closed Session

10. Approval of minutes of the Committee's Closed Session meeting of January 22, 2018

11. Development activities report

12. Consider and act on motion to approve Leaders Council invitees

13. Consider and act on motion to adjourn the meeting

April 9, 2018

Communications Subcommittee of the Institutional Advancement Committee

Open Session

1. Approval of agenda

2. Approval of minutes of the Subcommittee's Open Session meeting of January 22, 2018

3. Communications analytics update

• Carl Rauscher, Director of Communications and Media Relations

4. Public comment

5. Consider and act on other business

6. Consider and act on motion to adjourn the meeting

April 9, 2018

Governance and Performance Review Committee

Open Session

1. Approval of agenda

2. Approval of minutes of the Committee's Open Session meeting on January 21, 2018

3. Discussion regarding documents and information for orientation of and transition to new Committee members

4. Report on foundation grants and LSC's research agenda

• Jim Sandman, President

5. Report on transition planning

• Ron Flagg, General Counsel and Vice President for Legal Affairs

• Carol Bergman, Vice President for Government Relations & Public Affairs

6. Public comment

7. Consider and act on other business

8. Consider and act on adjournment of meeting

Closed Session

9. Report on evaluations of LSC's Comptroller, Vice President for Grants Management, Vice President for Government Relations and Public Affairs, and Vice President for Legal Affairs

• Jim Sandman, President

10. Consider and act on adjournment of meeting

April 9, 2018

Delivery of Legal Services Committee

Open Session

1. Approval of agenda

2. Approval of minutes of the Committee's Open Session meeting on January 22, 2018

3. Discussion regarding documents and information for orientation of and transition to new Committee members

4. Update of LSC revision of Performance Criteria

• Lynn Jennings, Vice President for Grants Management

5. Presentation on grantee oversight by the Office of Program Performance

• Lynn Jennings, Vice President for Grants Management

• Ed Caspar, Director, Office of Program Performance

• Althea Hayward. Deputy Director, Office of Program Performance

6. Public comment

7. Consider and act on other business

8. Consider and act on motion to adjourn the meeting

April 9 & 10, 2018

Board of Directors

Open Session—April 9 & 10

1. Pledge of Allegiance

2. Approval of agenda

3. Approval of minutes of the Board's Open Session meeting of January 23, 2018

4. Chairman's Report

5. Members' Report

6. President's Report

7. Inspector General's Report

8. Consider and act on the report of the Operations and Regulations Committee

9. Consider and act on the report of the Finance Committee

10. Consider and act on the report of the Audit Committee

11. Consider and act on the report of the Institutional Advancement Committee

12. Consider and act on the report of the Governance and Performance Committee

13. Consider and act on the report of the Delivery of Legal Services Committee

14. Consider and act on Resolution 2018-XXX, Establishing a Disaster Relief Taskforce

15. Consider and act on Resolution 2018-XXX, Establishing an Opioid Taskforce

16. Consider and act on Resolution 2018-XXX, In Recognition of Terry Brooks

17. Consider and act on Resolution 2018-XXX, In Recognition of Rosalie “Lisa” Chavez

18. Consider and act on Resolution 2018-XXX, In Recognition of Senator Thad Cochran

19. Consider and act on Resolution 2018-XXX, In Memoriam Senator Pietro “Pete” Domenici

20. Public Comment

21. Consider and act on other business

22. Consider and act on whether to authorize a closed session of the Board to address items listed below

Closed Session—April 10

23. Approval of minutes of the Board's Closed Session meeting of January 23, 2018

24. Management briefing

25. Inspector General briefing

26. Consider and act on General Counsel's report on potential and pending litigation involving LSC

27. Consider and act on list of prospective Leaders Council members

28. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC website, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: March 29, 2018.
Katherine Ward,
Executive Assistant to the Vice President for Legal Affairs, General Counsel & Corporate Secretary.

[FR Doc. 2018-06782 Filed 3-29-18; 4:15 pm]

BILLING CODE 7050-01-P